ENVIRONMENTAL PROTECTION AGENCY

[FRL-7219-9]

Agency Information Collection Activities: Submission for OMB Review; Comment Request; Nonconformance Penalties for Heavy-Duty Engines and Heavy-duty Vehicles, Including Light-Duty Trucks; Reporting and Recordkeeping Requirements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Nonconformance Penalties for Heavy-duty Engines and Heavy-duty Vehicles, Including Light-Duty Trucks, Reporting And Recordkeeping Requirements, OMB Control Number 2060-0132, expired 5/31/97, reinstatement. The ICR describes the nature of the information collection and its expected burden and cost; where appropriate, it includes the actual data collection instrument.

DATES: Comments must be submitted on or before June 28, 2002.

ADDRESSES: Send comments, referencing EPA ICR No. 1285.05 and OMB Control No. 2060-0132 to the following addresses: Susan Auby, U.S. Environmental Protection Agency, Collection Strategies Division (Mail Code 2822T), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epamail.epa.gov, or download off the Internet at http://www.epa.gov/icr and refer to EPA ICR No. 1285.05. For technical questions about the ICR contact Anthony Erb, tel.: (202) 564-9259; fax: (202) 565-2057: or e-mail: erb.anthony @epa.gov.

SUPPLEMENTARY INFORMATION: Title: Nonconformance Penalties for Heavy-Duty Engines and Heavy-Duty Vehicles, Including Light-Duty Trucks; Reporting And Recordkeeping Requirements; OMB Control No. 2060-0132; EPA ICR No. 1285.05, expired 5/31/1997, reinstatement. This is a request for reinstatement with change of a previously approved collection for which approval has expired.

Abstract: Section 206(g) of the Act as amended in 1990 contains the nonconformance penalty (NCP) provisions. It requires tests of production engines and vehicles to determine the extent of their nonconformity. Nonconformance penalties allow a manufacturer to introduce into commerce heavy-duty engines or vehicles including light-duty trucks, which fail to conform with certain emission standards upon payment of a monetary penalty. A manufacturer that elects to pay a nonconformance penalty must perform a Production Compliance Audit (PCA). The collection activities of the nonconformance penalty program include periodic reports and other information (including the results of emission testing conducted during the PCA) which the manufacturer will create and submit to the Certification and Compliance Division (CCD), Office of Transportation and Air Quality(OTAQ), Office of Air and Radiation (OAR). CCD will use this information to ensure that manufacturers are complying with the regulations and that appropriate nonconformance penalties are being paid. Responses to this collection are voluntary based on the fact that participation in the nonconformance penalty program is an option that is available to manufacturers. Once a manufacturer opts to participate, specific regulatory requirements must be fulfilled in order to obtain a benefit under the NCP. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 01/29/02 (67 FR 4252); no comments were received.

Burden Statement: The annual public reporting and record keeping burden for this collection of information is estimated to average 23 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: On-Highway engine and vehicle manufacturers.

Estimated Number of Respondents: 2.

Frequency of Response: 52.

Estimated Total Annual Hour Burden: 1178 hours.

Estimated Total Annualized Capital, O&M Cost Burden: $18,200.00.

Send comments on the Agency's need for this information, the accuracy of the provided burden estimates, and any suggested methods for minimizing respondent burden, including through the use of automated collection techniques to the addresses listed above. Please refer to EPA ICR No. 1285.05 and OMB Control No. 2060-0132 in any correspondence.

Dated: May 21, 2002.
Oscar Morales,
Director, Collection Strategies Division.

[FR Doc. 02-13345 Filed 5-28-02; 8:45 am]

BILLING CODE 6560-50-P